DEPARTMENT OF TRANSPORTATION

Federal Aviation Administration

14 CFR Part 73

[Docket No. FAA-2006-26599; Airspace Docket No. 06-ASW-11]

RIN 2120-AA66

Change to Controlling Agency of Restricted Area 2312; Fort Hauchuca, AZ

AGENCY: Federal Aviation Administration (FAA), DOT.

ACTION: Final rule.

SUMMARY: This action amends the controlling agency for Restricted Area 2312 (R-2312), Fort Hauchuca, AZ. Specifically, this action amends the controlling agency from “Libby [Army Air Field] AAF [Airport Traffic Control Tower] ATCT” to “Albuquerque [Air Route Traffic Control Center] ARTCC.” This is an administrative change that does not alter the boundaries, designated altitudes, time of designation, or activities conducted within R-2312. The FAA is taking this action at the request of the United States (U.S.) Army and the U.S. Air Force because Libby AAF ATCT is not a 24-hour facility and R-2312 is not fully contained within the airspace delegated to Libby AAF ATCT by Albuquerque ARTCC.

DATES: Effective Date: 0901 UTC, March 15, 2007.

FOR FURTHER INFORMATION CONTACT: Steve Rohring, Airspace and Rules, Office of System Operations Airspace and AIM, Federal Aviation Administration, 800 Independence Avenue, SW., Washington, DC 20591; telephone: (202) 267-8783.

SUPPLEMENTARY INFORMATION:

Background

On March 13 and March 17, 2006, respectively, the U.S. Army and the U.S. Air Force requested that the FAA take action to amend the controlling agency for R-2312, Fort Hauchuca, AZ from “Libby AAF ATCT” to “Albuquerque ARTCC.” The reason for the change is because Libby AAF ATCT is not a 24-hour facility and R-2312 is not fully contained within the airspace delegated to Libby AAF ATCT by Albuquerque ARTCC.

The Rule

At the request of the U.S. Army and the U.S Air Force, the FAA is amending the controlling agency for R-2312, Fort Hauchuca, AZ from “Libby AAF ATCT” to “Albuquerque ARTCC”. This is an administrative change that does not alter the boundaries, designated altitudes, time of designation, or activities conducted within R-2312. Therefore, notice and public procedures under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with 311d., FAA Order 1050.1E, “Environmental Impacts: Policies and Procedures.” This airspace action is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.23 [Amended]

2. § 73.23 is amended as follows:

* * * * *

R-2312 Fort Huachuca, AZ [Amended]

Under Controlling Agency, by removing the words “Libby AAF ATCT” and inserting the words “Albuquerque ARTCC.”

* * * * *

Issued in Washington, DC, on January 4, 2007.
Edith V. Parish,
Manager, Airspace and Rules.

[FR Doc. E7-323 Filed 1-11-07; 8:45 am]

BILLING CODE 4910-13-P